DEPARTMENT OF ENERGY

Federal Energy Regulatory Commission

[Docket Nos. RM05-17-000; RM05-25-000]

Preventing Undue Discrimination and Preference in Transmission Service; Notice of Technical Conferences

August 28, 2007.

Take notice that Commission staff will convene technical conferences on the following dates in the following cities to review and discuss the draft proposals regarding transmission planning required by the “Order Extending Compliance Action Date and Establishing Technical Conferences” issued in this proceeding on July 27, 2007.¹ Staff expects all transmission providers to participate in the technical conference for their particular region, although all interested persons, including other transmission providers, regional representatives, and transmission customers are invited to attend each conference. In the July 27 Order, the Commission extended until December 7, 2007 the date for transmission providers to submit an Attachment K to their Open Access Transmission Tariff incorporating the transmission planning principles and concepts adopted in Order No. 890.² To facilitate the development of these filings, the Commission also required transmission providers to post a draft of their Attachment K on or before September 14, 2007, and established a second round of staff technical conferences,³ which is being scheduled in this notice, for the purpose of stakeholder review of those drafts.⁴

¹ Preventing Undue Discrimination and Preference in Transmission Service, 120 FERC ¶ 61,103 (2007) at P 2 & 5 (July 27 Order).

² Preventing Undue Discrimination and Preference in Transmission Service, Order No. 890, 72 FR 12266 (March 15, 2007), FERC Stats. & Regs. ¶ 31,241 at p 444-602 (2007), reh'g pending.

³ The first round of staff technical conferences were held on: June 4-7, 2007 in Little Rock, AR, covering the southeast including Southwest Power Pool and its members; June 13, 2007 in Park City, UT, covering the northwest; June 26, 2007 in Phoenix, AZ, covering the southwest and California; and June 28-29, 2007 in Pittsburgh, PA, covering the ISO New England, New York ISO, PJM Interconnection, Midwest ISO, and Mid-Continent Area Power Pool (MAPP) subregions.

⁴ Additionally, on August 2, 2007, Commission staff placed in the record of this proceeding a White Paper to assist transmission providers in their development of tariff language consistent with the requirements of Order No. 890.

Date | Location | Transmission provider participants
October 1-2, 2007 | Atlanta, GA | Entities located in the states represented in the Southeastern Association of Regulatory Utility Commissioners (SEARUC) and entities located in the Southwest Power Pool footprint.
|  | Those wishing to participate as a panelist and provide feedback on the proposals should submit a request form by close of business on September 21, 2007, located at: https://www.ferc.gov/whats-new/registration/transmission-planning-speaker-form.asp.
October 15-16, 2007 | Boston, MA | Entities located within the Midwest ISO, PJM, New York ISO, and ISO New England footprints, MAPP/MAPP Participants, and adjacent areas.
|  | Those wishing to participate as a panelist and provide feedback on the proposals should submit a request form by close of business on September 28, 2007, located at: https://www.ferc.gov/whats-new/registration/transmission-planning-speaker-form.asp.

A further notice with a detailed agenda for each conference will be issued in advance of the conferences. Details about locations of meetings will be provided at that time. In the event a transmission provider is uncertain as to which technical conference is the appropriate forum for discussion of its draft proposal, such transmission providers should contact Commission staff in advance to discuss the matter.

For further information about these conferences, please contact:

Tony Ingram (Technical Information), Office of Energy Markets and Reliability, Federal Energy Regulatory Commission, 888 First Street, NE., Washington, DC 20426, (202) 502-8938. Tony.Ingram@ferc.gov.

John Cohen (Legal Information), Office of the General Counsel—Energy Markets, Federal Energy Regulatory Commission, 888 First Street, NE., Washington, DC 20426, (202) 502-8705. John.Cohen@ferc.gov.

Kimberly D. Bose,
Secretary.

[FR Doc. E7-17551 Filed 9-5-07; 8:45 am]

BILLING CODE 6717-01-P